ENVIRONMENTAL PROTECTION AGENCY

[EPA-HQ-OPP-2018-0014; FRL-9980-44]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before September 10, 2018.

ADDRESSES: Submit your comments, identified by docket identification (ID) number EPA-HQ-OPP-2018-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This notice announces receipt by EPA of requests from pesticide registrants to cancel certain pesticide products and amend product registrations to terminate certain uses. The affected products and the registrants making the requests are identified in Tables 1, 1A, 2 & 3 of this unit. The cancellations of the two triforine products, EPA Reg. Nos. 239-2435 and 82534-1, are the last registered products containing this active ingredient. The cancellation of the ten siduron products listed in Table 1A, are the last registered products containing this active ingredient.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredients
100-797 | 100 | Apron XL WS | Metalaxyl-M.
100-1065 | 100 | Scimitar WP Insecticide in Water-Soluble Packs | lambda-Cyhalothrin.
100-1174 | 100 | Impasse Termite Bait | Lufenuron.
100-1181 | 100 | Zyrox Plus Termite Baiting Technology | Lufenuron.
100-1257 | 100 | Lufenuron Termite Bait | Lufenuron.
239-2435 | 239 | Ortho Rose Disease Control | Triforine.
279-3312 | 279 | Capture 8% ME Insecticide/Miticide | Bifenthrin.
279-9533 | 279 | Fluthiacet-Methyl WSP Herbicide | Fluthiacet-methyl.
352-392 | 352 | DuPont Velpar L Herbicide | Hexazinone.
352-570 | 352 | DuPont DPX-E9636 75 DF Herbicide | Rimsulfuron.
352-572 | 352 | DuPont DPX-79406 75 DF Herbicide | Nicosulfuron & Rimsulfuron.
352-573 | 352 | DuPont Synchrony STS DF Herbicide | Chlorimuron & Thifensulfuron.
352-574 | 352 | DuPont Synchrony STS SP Herbicide | Chlorimuron & Thifensulfuron.
352-576 | 352 | DuPont Staple Herbicide | Pyrithiobac-sodium.
352-581 | 352 | DuPont Velpar DF Herbicide | Hexazinone.
352-585 | 352 | Basis Gold Herbicide | Atrazine, Nicosulfuron & Rimsulfuron.
352-599 | 352 | DuPont Synchrony STS Herbicide | Chlorimuron & Thifensulfuron.
352-619 | 352 | DuPont Steadfast ATZ Herbicide | Atrazine, Nicosulfuron & Rimsulfuron.
352-650 | 352 | DuPont Synchrony XP (MP) Herbicide | Chlorimuron & Thifensulfuron.
352-667 | 352 | DuUPont Stout (MP) | Thifensulfuron & Nicosulfuron.
352-721 | 352 | DuPont Stout Herbicide | Thifensulfuron & Nicosulfuron.
352-749 | 352 | DuPont STS07 Broadleaf Herbicide | Thifensulfuron & Chlorimuron.
352-759 | 352 | DuPont DPX-QFU30 (MP) Herbicide | Thifensulfuron & Rimsulfuron.
1448-52 | 1448 | Busan 40 | Metam-Potassium.
1448-74 | 1448 | PNMDC | Metam-Potassium.
1839-30 | 1839 | BTC 824 P100 | Alkyl* dimethyl benzyl ammonium chloride *(100% C14).
2693-11 | 2693 | Supertrop Antifouling Bottom Paint 46 Red | Cuprous oxide.
2693-12 | 2693 | Bottomkote Antifouling 49 Red | Cuprous oxide.
2693-19 | 2693 | Viny-Lux Vinyl Antifouling Paint 350 Red | Cuprous oxide.
2693-33 | 2693 | Offshore Antifouling Red 1605 | Cuprous oxide.
2693-54 | 2693 | International NB Supertrop Antifouling Paint NB1609 | Cuprous oxide.
2693-58 | 2693 | Bottomkote Antifouling Paint 59 Green | Cuprous oxide.
2693-59 | 2693 | Bottomkote Antifouling Paint 69 Blue | Cuprous oxide.
2693-90 | 2693 | Red Hand Antifouling 72 Blue | Cuprous oxide.
2693-97 | 2693 | Supertrop Antifouling Paint 45 Blue | Cuprous oxide.
2693-121 | 2693 | Super Viny-Lux Vinyl Antifouling Red 459 | Cuprous oxide.
2693-135 | 2693 | XUU 284 | Cuprous oxide.
2693-143 | 2693 | Ultra-Kote 2669H Blue | Cuprous oxide.
2693-146 | 2693 | Seaproof Paint X-255 Evertox Blue Copper Anti-Fouling | Cuprous oxide.
2693-147 | 2693 | Regatta 3900 Anti-Fouling Red Latex | Cuprous oxide.
2693-165 | 2693 | Seaproof X-254 Evertox Green Copper Anti-Fouling | Cuprous oxide.
2693-166 | 2693 | Seaproof 42 90 Tritox Red Anti-Fouling | Cuprous oxide.
2693-167 | 2693 | Seaproof X-253 Evertox Red Copper Anti-Fouling | Cuprous oxide.
2693-168 | 2693 | Regatta Vinyltex 55 Fast Red Antifouling | Cuprous oxide.
2693-169 | 2693 | Seaproof 1600 Plastic Red Copper Antifouling | Cuprous oxide.
2693-171 | 2693 | Baltimore Red Copper Paint | Cuprous oxide.
2693-192 | 2693 | Ultra with Bio-Lux Blue | Cuprous oxide & 1,3,5-Triazine-2,4-diamine, N-cyclopropyl-N′-(1,1-dimethylethyl)-6-(methylthio)-.
2693-201 | 2693 | Ultra Plus—Blue | Cuprous oxide & 1,3,5-Triazine-2,4-diamine, N-cyclopropyl-N′-(1,1-dimethylethyl)-6-(methylthio)-.
2693-205 | 2693 | Ultra Plus Blue | Cuprous oxide & 1,3,5-Triazine-2,4-diamine, N-cyclopropyl-N′-(1,1-dimethylethyl)-6-(methylthio)-.
2693-219 | 2693 | Super KL Plus with Irgarol II—Black | 1,3,5-Triazine-2,4-diamine, N-cyclopropyl-N′-(1,1-dimethylethyl)-6-(methylthio)- & Cuprous oxide.
2935-389 | 2935 | Nusan 30 E.C | 2-(Thiocyanomethylthio)benzothiazole.
4787-65 | 4787 | Azoxystrobin Technical | Azoxystrobin.
9688-107 | 9688 | Chemsico Insect Spray | Piperonyl butoxide & Pyrethrins.
9688-110 | 9688 | Chemsico Patio Spray | Piperonyl butoxide; Tetramethrin & Permethrin.
9688-150 | 9688 | Chemsico Aerosol Insecticide PP | Pyrethrins & Piperonyl butoxide.
9688-225 | 9688 | Chemsico Insect Spray PP | Pyrethrins & Piperonyl butoxide.
9688-228 | 9688 | Chemsico Wasp & Hornet Killer FEQ 24 | Piperonyl butoxide; Permethrin & Tetramethrin.
9688-236 | 9688 | Chemsico Aerosol Insecticide TPP | Piperonyl butoxide; Permethrin & Tetramethrin.
9688-247 | 9688 | Chemsico Wasp & Hornet Killer FEQ C24 | Piperonyl butoxide; Permethrin & Tetramethrin.
9688-273 | 9688 | Chemsico Insecticide RTU OP | Pyrethrins.
10324-195 | 10324 | Maquat 615 SRTU-BOV | 1-Decanaminium, N,N-dimethyl-N-octyl-, chloride; 1-Octanaminium, N,N-dimethyl-N-octyl-, chloride; 1-Decanaminium, N-decyl-N,N-dimethyl-, chloride & Alkyl* dimethyl benzyl ammonium chloride *(50%C14, 40%C12, 10%C16).
15136-9 | 15136 | Wavicide-06 Plus | Ethanol & Glutaraldehyde.
23566-10 | 23566 | Racing Vinyl 640 Red | Cuprous oxide.
23566-18 | 23566 | America's Cup 681 Blue | Cuprous oxide.
34160-1 | 34160 | Pine-Oil Disinfectant Detergent Concentrate | Pine oil.
61282-53 | 61282 | Biophene Liquid Disinfectant | 2-Benzyl-4-chlorophenol; 4-tert-Amylphenol & o-Phenylphenol (NO INERT USE).
61842-43 | 61842 | DuPont Velpar Alfamax MP Herbicide | Diuron & Hexazinone.
61842-44 | 61842 | DuPont Velpar K-4 Max Herbicide | Diuron & Hexazinone.
63838-6 | 63838 | Dibrom NPA | 2,2-Dibromo-3-nitrilopropionamide.
73770-1 | 73770 | Fresh Aire | Alkyl* dimethyl benzyl ammonium chloride *(50%C14, 40%C12, 10%C16).
81964-3 | 81964 | Acephate 90% SP | Acephate.
82523-1 | 82523 | Aerisguard Bioactive Coil Treatment | Triclosan.
82534-1 | 82534 | Triforine Technical | Triforine.
83122-1 | 83122 | Pro-Tek 50 Fabric/Apparel (Garment) Treatment | Permethrin.
83122-2 | 83122 | Bond-It Insect Repellent Fabric Treatment | Permethrin.
88751-1 | 88751 | A-Liquid | Silver & Copper as elemental.
OR-030029 | 19713 | Drexel Captan 4L Fungicide | Captan.
OR-040004 | 100 | Fulfill | Pymetrozine.
OR-040005 | 100 | Fulfill | Pymetrozine.
OR-900019 | 10163 | Treflan TR-10 Granules | Trifluralin.
OR-940037 | 62719 | Sonalan HFP | Ethalfluralin.
OR-950013 | 100 | Fusilade DX | Fluazifop-P-butyl.
OR-990039 | 100 | Bravo 825 | Chlorothalonil.
OR-990040 | 100 | Bravo 720 | Chlorothalonil.
VA-110002 | 100 | Ridomil Gold SL | Metalaxyl-M.
WA-040024 | 100 | Fusilade DX Herbicide | Fluazifop-P-butyl.
WA-050002 | 5481 | Orthene 75 S Soluble Powder (Water Soluble Packets) | Acephate.

Table 1A—Product Registrations With Pending Requests for Cancellation
Registration No. | Company No. | Product name | Active ingredient
538-60 | 538 | Starter Fertilizer with Crabgrass Preventer | Siduron.
961-297 | 961 | Greenfield Modern Trebl | Siduron.
961-309 | 961 | Greenskeeper Crabgrass Killer Contains 4.6% Tupersan | Siduron.
961-319 | 961 | Lebanon Spring Seeding Crabgrass Preventer with Grass Food | Siduron.
8378-63 | 8378 | Shaw's Turf Food with Tupersan 350 | Siduron.
8378-64 | 8378 | Shaw's Tupersan 470 Granules | Siduron.
9198-50 | 9198 | The Anersons Fertilizer with 3.5% Tupersan | Siduron.
10163-213 | 10163 | Tupersan Herbicide | Siduron.
10163-214 | 10163 | Tupersan 70 Herbicide | Siduron.
10163-216 | 10163 | Siduron Technical | Siduron.

The registrants for the pesticide product registrations listed in Table 1A have requested to the Agency via letter, that the cancellations become effective December 31, 2020.

Table 1B—Product Registrations With Pending Requests for Cancellation
Registration No. | Company No. | Product name | Active ingredient
432-1412 | 432 | Armada 50 WP | Triadimefon & Trifloxystrobin.

The registrant for the pesticide product registration listed in Table 1B has requested to the Agency via letter, that the cancellation becomes effective at the federal level on December 31, 2018.

Table 2—Product Registrations With Pending Requests for Amendment
Registration No. | Company No. | Product name | Active ingredients | Uses to be terminated
1839-208 | 1839 | BTC 1455 | Alkyl* dimethyl benzyl ammonium chloride *(95%C14, 3%C12, 2%C16) | Golf courses and golf commercial turf/lawns.
19713-691 | 19713 | Drexel Chlorothalonil Technical | Chlorothalonil | Antimicrobrial uses.
47000-103 | 47000 | CT 10 Concentrate | Permethrin | Golf courses.
53883-379 | 53883 | Quali-Pro Prodiamine 4L | Prodiamine | Use in drainage ditches for California & Arizona.
61842-13 | 61842 | Sinbar Herbicide | Terbacil | Grass grown for seed (Grass seed crops).
61842-14 | 61842 | Terbacil Technical Herbicide | Terbacil | Grass grown for seed (Grass seed crops).
61842-27 | 61842 | Sinbar WDG (Status—Inactive), (Sinbar WDG Agricultural Herbicide—(Status—Active) | Terbacil | Grass grown for seed (Grass seed crops).
70553-2 | 70553 | Permethrin Technical | Permethrin | Terrestrial food and feed uses.

Table 3 of this unit includes the names and addresses of record for the registrants of the products listed in Table 1, Table 1A, Table 1B and Table 2 of this unit, in sequence by EPA company number. This number corresponds to the first part of the EPA registration numbers of the products listed in Table 1, Table 1A, Table 1B and Table 2 of this unit.

Table 3—Registrants Requesting Voluntary Cancellation and/or Amendments
EPA company No. | Company name and address
100 | Syngenta Crop Protection, LLC, 410 Swing Road, P.O. Box 18300, Greensboro, NC 27419-8300.
239 | The Scotts Company, d/b/a The Ortho Group, 14111 Scottslawn Road, Marysville, OH 43041.
279 | FMC Corporation, 2929 Walnut Street, Philadelphia, PA 19104.
352 | E. I. Du Pont De Nemours and Company, Attn: Manager, US Registration, DuPont Crop Protection, Chestnut Run Plaza (CRP 720/2E5), 974 Centre Rd., Wilmington, DE 19805.
432 | Bayer Environmental Science, A Division of Bayer CropScience, LP, 2 T. W. Alexander Drive, Research Triangle Park, NC 27709.
538 | Scotts Company, The, 14111 Scottslawn Road, Marysville, OH 43041.
961 | Lebanon Seaboard Corporation, 1600 East Cumberland Street, Lebanon, PA 17042.
1448 | Buckman Laboratories, Inc., 1256 North McLean Blvd., Memphis, TN 38108.
1839 | Stepan Company, 22 W. Frontage Rd., Northfield, IL 60093.
2693 | International Paint, LLC, 6001 Antoine Drive, Houston, TX 77091.
2935 | Wilbur-Ellis Company, LLC, 2903 S. Cedar Ave., Fresno, CA 93725.
4787 | Cheminova A/S, Agent Name: FMC Corporation, 1735 Market Street, Room 1971, Philadelphia, PA 19103.
5481 | Amvac Chemical Corporation, 4695 MacArthur Court, Suite 1200, Newport Beach, CA 92660-1706.
8378 | Knox Fertilizer Company, Inc., Agent Name: Fred Betz Regulatory Strategies, 922 Melvin Road, Annapolis, MD 21403.
9198 | The Andersons, Inc., 1947 Briarfield Blvd, P.O. Box 119, Maumee, OH 43537.
9688 | Chemsico, A Division of United Industries Corp., P.O. Box 142642, St. Louis, MO 63114-0642.
10163 | Gowan Company, P.O. Box 5569, Yuma, AZ 85366.
10324 | Mason Chemical Company, 2744 E. Kemper Rd., Cincinnati, OH 45241.
15136 | Medical Chemical Corp., 19430 Van Ness Ave., Torrance, CA 90501.
19713 | Drexel Chemical Company, P.O. Box 13327, Memphis, TN 38113-0327.
23566 | International Paint, LLC, 6001 Antoine Drive, Houston, TX 77091.
34160 | Lighthouse for The Blind of Houston, Agent Name: Laird's Regulatory Consultants, Inc., 17804 Braemar Place, Leesburg, VA 20175-7046.
47000 | Chem-Tech, Ltd., 620 Lesher Place, Lansing, MI 48912.
53883 | Control Solutions, Inc., 5903 Genoa Red Bluff Road, Pasadena, TX 77507.
61282 | Hacco, Inc., 620 Lesher Place, Lansing, MI 48912.
61842 | Tessenderlo Kerley, Inc., Agent Name: Pyxis Regulatory Consulting, Inc., 4110 136th Street Ct NW, Gig Harbor, WA 98332.
62719 | Dow Agrosciences, LLC, 9330 Zionsville Rd., Indianapolis, IN 46268-1054.
63838 | Enviro Tech Chemical Services, Inc., 500 Winmoore Way, Modesto, CA 95358.
70553 | Meghmani Organics Limited, Meghmani House, Shree Nivas Society, Agent Name: Butz Consulting, LLC, 13411 Marble Rock Dr., Chantilly, VA 20151.
73770 | Dial Manufacturing, Inc., 25 South 51st Avenue, Phoenix, AZ 85043.
81964 | Chemstarr, LLC, Agent Name: Pyxis Regulatory Consulting Inc., 4110 136th Street Ct NW, Gig Harbor, WA 98332.
82523 | Aeris Environmental, Ltd., Agent Name: Scientific & Regulatory Consultants, Inc., 201 W. Van Buren Street, Columbia City, IN 46725.
82534 | Summit Agro North America Holding Corporation, Agent Name: Pyxis Regulatory Consulting, Inc., 4110 136th Street Ct NW, Gig Harbor, WA 98332.
83122 | Garnik Industries, LLC, 261 5th Avenue, Suite 2001, New York, NY 10016.
88751 | Toto USA, Inc., Agent Name: Technology Sciences Group, Inc., 1150 18th Street, NW, Suite 1000, Washington, DC 20036.

III. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation or termination action, the effective date of cancellation or termination and all other provisions of any earlier cancellation or termination action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Tables 1, 1A, 1B and 2 of Unit II.

A. For Product 10324-195

The registrant has requested to the Agency via letter, an 18-month sell thru period.

For all other voluntary product cancellations, identified in Table 1, Table 1A and Table 1B of Unit II, registrants will be permitted to sell and distribute existing stocks of voluntarily canceled products for 1 year after the effective date of the cancellation, which will be the date of publication of the cancellation order in the Federal Register. Thereafter, registrants will be prohibited from selling or distributing the products identified in Table 1, Table 1A & Table 1B of Unit II, except for export consistent with FIFRA section 17 (7 U.S.C. 136o) or for proper disposal.

Once EPA has approved product labels reflecting the requested amendments to terminate uses, identified in Table 2 of Unit II, registrants will be permitted to sell or distribute products under the previously approved labeling for a period of 18 months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: July 13, 2018.
Delores Barber,
Director, Information Technology and Resources Management Division, Office of Pesticide Programs.

[FR Doc. 2018-17191 Filed 8-9-18; 8:45 am]

BILLING CODE 6560-50-P